DEPARTMENT OF ENERGY

Federal Energy Regulatory Commission

[Docket No. CP25-209-000]

Great Basin Gas Transmission Company; Notice of Schedule for the Preparation of an Environmental Assessment for the 2026 Great Basin Expansion

On April 15, 2025, Great Basin Gas Transmission Company (Great Basin) filed an application in Docket No. CP25-209-000 requesting a Certificate of Public Convenience and Necessity pursuant to Section7(c) and an authorization to abandon under Section 7(b) of the Natural Gas Act to construct, operate, and abandon certain natural gas pipeline facilities. The proposed project is known as the 2026 Great Basin Expansion (Project) and would increase firm transportation capacity by 8,129 dekatherms per day (Dth/d) in response to growing market demand as requested by two existing shippers in North Nevada and Northern California.

On April 29, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1752151875.

Schedule for Environmental Review

Issuance of EA—November 25, 2025

90-day Federal Authorization Decision Deadline ²—February 23, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Great Basin proposes to expand its certificated natural gas transportation capacity downstream of its existing Wadsworth Receipt Point in Washoe and Lyon Counties, Nevada. The Project would consist of the following facilities:

• installing approximately 2.3 miles of new 20-inch-diameter steel pipeline loop ³ parallel to Great Basin's existing Carson Lateral (Wadsworth segment) in Washoe County, Nevada; and

³ A pipeline loop is a segment of pipe constructed parallel to an existing pipeline to increase capacity.

• abandoning by removal and same-ditch replacement of approximately 2.4 miles of existing 10-inch-diameter steel pipeline with new 20-inch-diameter steel pipeline (Highway segment) in Lyon County, Nevada.

Background

On May 27, 2025, the Commission issued a Notice of Scoping Period Requesting Comments on Environmental Issues for the Proposed 2026 Great Basin Expansion and Notice of Public Scoping Session (Notice of Scoping). The Notice of Scoping was sent to affected landowners; federal, state, and local government agencies; elected officials; environmental and public interest groups; Native American tribes; other interested parties; and local libraries and newspapers. The Commission received comments from the Bureau of Land Management. The primary issues raised in the comments are wildlife and special species, survey protocols, and the need for Class III cultural resource inventories in the Project area. All substantive comments will be addressed in the EA.

The Bureau of Land Management is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-209), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 18, 2025.
Debbie-Anne A. Reese,
Secretary.

[FR Doc. 2025-13871 Filed 7-22-25; 8:45 am]

BILLING CODE 6717-01-P